DEPARTMENT OF TRANSPORTATION

Federal Motor Carrier Safety Administration

[Docket No. FMCSA-2021-0051]

Commercial Driver's License Requirements: Dealers' Choice Truckaway System, Inc. dba Truckmovers; Irontiger Logistics, Inc.; TM Canada, Inc.; Victory Driveaway, Inc., Application for Exemption

AGENCY: Federal Motor Carrier Safety Administration (FMCSA), Department of Transportation (DOT).

ACTION: Notice of final disposition; denial of application for exemption.

SUMMARY: FMCSA announces its decision to deny the exemption request submitted by the following affiliated driveaway motor carriers: Dealers' Choice Truckaway System, Inc. dba Truckmovers; Irontiger Logistics, Inc.; TM Canada, Inc.; and Victory Driveaway, Inc. These driveaway carriers jointly sought an exemption from the requirement that drivers transporting empty passenger vehicles with seating capacities of 16 or more but a gross vehicle weight rating (GVWR) and a gross vehicle weight (GVW) of less than 26,001 pounds possess a commercial drivers' license (CDL) to do so. The applicants explain that they are often called on to transport what they describe as minibuses from points of manufacture or distribution to school districts around the country, and that the requirement that drivers hold a CDL to deliver these empty vehicles is an unnecessary restriction that contributes to the driver shortage. FMCSA analyzed the request and public comments and determined that the application provided no evidence that the exemption would ensure a level of safety equivalent to or greater than that achieved absent such exemption.

FOR FURTHER INFORMATION CONTACT: Mr. Richard Clemente, FMCSA Driver and Carrier Operations Division; Office of Carrier, Driver and Vehicle Safety Standards; Telephone: 202-366-2722. Email: MCPSD@dot.gov. If you have questions on viewing or submitting material to the docket, contact Docket Services, telephone (202) 366-9826.

SUPPLEMENTARY INFORMATION:

I. Public Participation

Viewing Comments and Documents

To view comments, go to www.regulations.gov, insert the docket number “FMCSA-2021-0051” in the keyword box, and click “Search.” Next, sort the results by “Posted (Newer-Older),” choose the first notice listed, click “Browse Comments.”

To view documents mentioned in this notice as being available in the docket, go to www.regulations.gov, insert the docket number “FMCSA-2021-0051” in the keyword box, click “Search,” and chose the document to review.

If you do not have access to the internet, you may view the docket online by visiting Dockets Operations in Room W12-140 on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315 to grant exemptions from certain Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period (up to 5 years) and explain the terms and conditions of the exemption. The exemption may be renewed (49 CFR 381.300(b)).

III. Background

Current Regulatory Requirements

The regulations in 49 CFR 383.3 require that every individual operating a commercial motor vehicle (CMV) in interstate, foreign, or intrastate commerce hold a valid CDL. Under 49 CFR 383.5, a CMV includes a motor vehicle or combination of motor vehicles used in commerce to transport passengers if the motor vehicle is a small vehicle that does not meet Group A or B requirements but is designed to transport 16 or more passengers, including the driver.

Applicant's Request

The applicants requested an exemption from the CDL requirements for a driver operating empty passenger CMVs (“minibuses”) with seating capacities ranging from 6 to 33, and sometimes more. In all cases, however, the GVWR and GVW of these vehicles are less than 26,001 pounds. The applicants state that they have experienced challenges finding CDL drivers and that bus manufacturers may not be able to move minibuses to distributors and customers.

IV. Method To Ensure an Equivalent or Greater Level of Safety

To ensure an equivalent level of safety, the applicants emphasize that the drivers would transport empty passenger CMVs with a GVW less than 26,001 pounds, would remain subject to the driver qualification standards in 49 CFR part 391, and would hold a valid operators' license.

V. Public Comments

On July 14, 2021, FMCSA published notice of the application and requested public comments (86 FR 37207). The Agency received comments from the Advocates for Highway and Auto Safety (Advocates) and an individual; both opposed the exemption request. Advocates stated: “The current application must be denied as it fails to meet the statutory requirements for such a petition and the exemptions sought would significantly degrade public safety. Notably, Petitioners fail to indicate any alternative solutions they have attempted to implement to address these issues before filing the current Application. The current application would result in a needless threat to public safety by permitting an untold number of CMVs to be transported by individuals without a valid CDL. This would be a drastic departure from current established federal regulations. Further, the applicant has failed to provide FMCSA with the required analysis and supporting information necessitated by statute and thus, should be denied.” The individual commenter stated that the applicant failed to mention the increased safety issues that come with driving larger and longer vehicles.

VI. FMCSA Safety Analysis and Decision

FMCSA has evaluated the joint application and the public comments and decided to deny the exemption. Driving a CMV requires a higher level of knowledge, experience, skills, and physical abilities than that required to drive a non-commercial vehicle. In order to obtain a CDL, an applicant must pass both skills and knowledge tests geared to these higher standards. Additionally, CDL holders are held to a higher standard when operating any type of motor vehicle on public roads. Serious traffic violations committed by a CDL holder can affect their ability to maintain their CDL certification. CDL operators must adhere to a strict and comprehensive set of regulations to keep themselves and other drivers safe on the road.

As Advocates and the individual commenter indicated, the application does not meet the statutory requirements for such a petition, and the requested exemptions sought would significantly degrade public safety. An exemption from the CDL requirements in part 383 would also automatically exempt the drivers from the drug and alcohol testing regulations in 49 CFR part 382. The applicants do not provide countermeasures to be undertaken to ensure that the exemption would likely achieve a level of safety equivalent to, or greater than, the level that would be achieved by the current regulations. Furthermore, the applicants fail to provide the required analysis and supporting information required by statute for submitting this application for exemption.

The Agency cannot ensure that the exemption would achieve the requisite level of safety and therefore must deny the application.

Robin Hutcheson,
Deputy Administrator.

[FR Doc. 2022-08936 Filed 4-26-22; 8:45 am]

BILLING CODE 4910-EX-P